DEPARTMENT OF HEALTH AND HUMAN SERVICES

Centers for Medicare & Medicaid Services

[Docket Identifier: CMS-10068, CMS-10128, CMS-484, CMS-846-849, 854, 10125, 10126]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the agency's function; (2) the accuracy of the estimated burden; (3) ways to enhance the quality, utility, and clarity of the information to be collected; and (4) the use of automated collection techniques or other forms of information technology to minimize the information collection burden.

1. Type of Information Collection Request: Extension of a currently approved collection; Title of Information Collection: Assessing the Division of Beneficiary Inquiry Customer Service's Performance for Written Responses; Form No: CMS-10068 (OMB# 0938-0894); Use: The Division of Beneficiary Inquiry Customer Service (DBICS) will collect information quarterly to assess the customer service provided via written responses. DBICS will conduct the written survey through mailings that will accompany actual responses. The envelopes will be sent by Release Clerks so that the actual writer has no knowledge that a particular response is being rated. The survey will be used to measure overall satisfaction of the customer service that the DBICS provides to Medicare beneficiaries and their representatives; Frequency: Quarterly; Affected Public: Individuals or households; Number of Respondents: 2,872; Total Annual Responses: 2,872; Total Annual Hours: 287.

2. Type of Information Collection Request: New collection; Title of Information Collection: Public Reporting on Quality Outcomes National Survey of Hospital Executives (“PRO QUO”); Use: CMS seeks to survey hospitals quality improvement executives in spring 2005 to assess awareness of CMS Hospital Quality Initiatives and related publicity, and to assess impact of these initiatives on hospitals and their quality improvement programs. Findings will be used to enhance CMS programs to assist hospitals in quality improvement. Form Number: CMS-10128 (OMB#: 0938-NEW); Frequency: Once; Affected Public: Not-for-profit institutions and business or other for-profit; Number of Respondents: 1,600; Total Annual Responses: 1,600; Total Annual Hours: 792.

3. Type of Information Collection Request: Revision of a currently approved collection; Title of Information Collection: Attending Physician's Certification of Medical Necessity for Home Oxygen Therapy and Supporting Regulations 42 CFR 410.38 and 42 CFR 424.5; Form No.: 0938-0534 (CMS-484); Use: This form is used to determine if oxygen is reasonable and necessary pursuant to Medicare Statute; Medicare claims for home oxygen therapy must be supported by the treating physician's statement and other information including estimate length of need (# of months), diagnosis codes (ICD-9) etc. Oxygen (and oxygen equipment) is by far the largest single total charge of all items paid under durable medical equipment coverage authority. Medicare has the legal authority to collect sufficient information to determine payment for oxygen, and oxygen equipment. The CMN provides a mechanism for suppliers of Durable Medical Equipment and suppliers of Medical Equipment and Supplies to demonstrate that the item being provided meets the criteria for Medicare coverage. By revising the oxygen CMN questions but adhering to the basic format, CMS can increase the accuracy of the document while eliminating the need to re-educate CMN users. In addition, to the above changes, the statement in Section D stating, “signature and date stamps are not acceptable” will be eliminated and no longer required.; Frequency: As needed; Affected Public: Business of other for-profit; Number of Respondents: 11,000; Total Annual Responses: 1,200,000; Total Annual Hours: 497,000.

4. Type of Information Collection Request: Revision of currently approved collection; Title of Information Collection: Durable Medical Equipment Regional Carrier, Certificate and Medical Necessity and Supporting Documentation; Use: The information collected on these forms is needed to correctly process claims and ensure proper claim payment. Suppliers and physicians will complete these forms and as needed supply additional routine supporting documentation necessary to process claims. CMS Forms 841 and 842, Certificate of Medical Necessity (CMN): Hospital Beds and CMN: Support Surface respectively, will be eliminated and no longer be required. CMS Form 846, CMN: Pneumatic Compression Devices, had changes to the title of the CMN form and the individual questions on the form. CMS Forms 847-849, CMN: Osteogenesis Stimulators, CMN: Transcutaneous Electrical Nerve Stimulator (TENS), and CMN: Seat Lift Mechanism, respectively, all had changes to individual questions on the forms. CMS Form 10125, DMERC Information Form: External Infusion Pump, replaced CMS Form 851. CMS Form 10126, DMERC Information Form: Enteral and Parenteral Nutrition, replaced CMS Forms 852-853.; Form Number: CMS-846-849, 854, 10125, 10126 (OMB#: 0938-0679); Frequency: On occasion; Affected Public: Business or other for-profit; Number of Respondents: 51,000; Total Annual Responses: 5,400,000; Total Annual Hours: 1,215,000.

To obtain copies of the supporting statement and any related forms for the proposed paperwork collections referenced above, access CMS Web Site address at http://www.cms.hhs.gov/regulations/pra/, or E-mail your request, including your address, phone number, OMB number, and CMS document identifier, to Paperwork@cms.hhs.gov, or call the Reports Clearance Office on (410) 768-1326.

Written comments and recommendations for the proposed information collection must be mailed within 30 days of this notice directly to the OMB desk officer: OMB Human Resources and Housing Branch, Attention: Christopher Martin, New Executive Office Building, Room 10235, Washington, DC 20503.

Dated: January 13, 2005.
Dawn Willingham,
Acting, CMS Paperwork Reduction Act Reports Clearance Officer, Office of Strategic Operations and Regulatory Affairs, Regulations Development Group.

[FR Doc. 05-1319 Filed 1-24-05; 8:45 am]

BILLING CODE 4120-03-M